DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its seventy-second meeting.

Name: National Advisory Committee on Rural Health and Human Services.

Dates and Times: September 26, 2012, 9:00 a.m.-5 p.m.; September 27, 2012, 9:00 a.m.-5 p.m.; September 28, 2012, 8:45 a.m.-11:15 a.m.

Place: Radisson Hotel & Suites Austin Downtown, 111 East Cesar Chavez Street, Austin, TX 78701.

Phone: (512) 478-9611.

Status: The meeting will be open to the public.

Purpose: The National Advisory Committee on Rural Health and Human Services provides advice and recommendations to the Secretary with respect to the delivery, research, development, and administration of health and human services in rural areas.

Agenda: Wednesday morning at 9:00 a.m., the meeting will be called to order by the Chairman of the Committee, the Honorable Ronnie Musgrove. The Committee will be examining the future of the rural health care infrastructure and the rural effects of recent changes to the Temporary Assistance for Needy Families (TANF) Program. The day will conclude with a period of public comment at approximately 5:00 p.m.

Thursday morning at approximately 9:00 a.m., the Committee will break into Subcommittees and depart for site visits to rural healthcare and human services providers in Texas. One panel from the Health Infrastructure Subcommittee will visit the Llano Memorial Hospital in Llano, TX. Another panel from the Health Infrastructure Subcommittee will visit Gonzales Healthcare System—Memorial Hospital, in Gonzales, TX. The day will conclude at the Radisson Hotel & Suites Austin Downtown with a period of public comment at approximately 5:00 p.m.

The final session will be convened on Friday morning at 9 a.m. The Committee will summarize key findings from the meeting and develop a work plan for the next quarter and the following meeting. The meeting will adjourn at 11:15 a.m.

FOR FURTHER INFORMATION CONTACT: Steve Hirsch, MSLS, Executive Secretary, National Advisory Committee on Rural Health and Human Services, Health Resources and Services Administration, Parklawn Building, Room 5A-05, 5600 Fishers Lane, Rockville, MD 20857, Telephone (301) 443-0835, Fax (301) 443-2803.

Persons interested in attending any portion of the meeting should contact Nathan Nash at the Office of Rural Health Policy (ORHP) via telephone at (301) 443-0835 or by email at nnash@hrsa.gov. The Committee meeting agenda will be posted on ORHP's Web site http://www.hrsa.gov/advisorycommittees/rural/.

Dated: August 16, 2012.
Bahar Niakan,
Director, Division of Policy and Information Coordination.

[FR Doc. 2012-20932 Filed 8-23-12; 8:45 am]

BILLING CODE 4165-15-P